DEPARTMENT OF ENERGY

Hawaii Clean Energy Final Programmatic Environmental Impact Statement

AGENCY: U.S. Department of Energy.

ACTION: Notice of availability.

SUMMARY: The U.S. Department of Energy (DOE) announces the availability of the Hawaii Clean Energy Final Programmatic Environmental Impact Statement (Hawaii Clean Energy Final PEIS or Final PEIS) (DOE/EIS-0459). The PEIS, which is not required under the National Environmental Policy Act (NEPA), evaluates the potential environmental impacts associated with 31 energy efficiency activities and renewable energy technologies that could be implemented to assist the State of Hawaii in meeting the goals established under the Hawaii Clean Energy Initiative (HCEI).

ADDRESSES: The Department encourages interested parties to access the Final PEIS electronically. It is posted at http://hawaiicleanenergypeis.com and http://energy.gov/nepa/eis-0459-hawaii-clean-energy-programmatic-environmental-impact-statement.

CDs and printed copies are available for viewing at:

• Hawaii State Library, 478 South King Street, Honolulu, HI 96813

• Lanai Public and School Library, 555 Fraser Ave., Lanai City, HI 96763

• Wailuku Public Library, 251 High Street, Wailuku, HI 96793

• Molokai Public Library, 15 Ala Malama, Kaunakakai, HI 96748

• Hilo Public Library, 300 Waianuenue Ave., Hilo, HI 96720.

• Kailua-Kona Public Library, 75-138 Hualalai Road, Kailua-Kona, HI 96740.

• Lihue Public Library, 4344 Hardy Street, Lihue, HI 96766

The Hawaii State Energy Office will provide a printed copy of the Summary or complete Final PEIS to individuals who cannot access the document online or from a CD. If a printed copy is required, send an email request to energyoffice@dbedt.hawaii.gov, or call 808-587-3807.

FOR FURTHER INFORMATION CONTACT: For additional information on the Hawaii Clean Energy Final PEIS, contact Dr. Jane Summerson at hawaiicleanenergypeis@ee.doe.gov or the Hawaii State Energy Office at 808-587-3807. For general information regarding the DOE NEPA process, contact: Ms. Carol M. Borgstrom, Director, Office of NEPA Policy and Compliance (GC-54), U.S. Department of Energy, 1000 Independence Ave. SW., Washington, DC 20585; email to askNEPA@hq.doe.gov, call 202-586-4600, or leave a message at 800-472-2756.

SUPPLEMENTARY INFORMATION:

Background

DOE and Hawaii entered into a Memorandum of Understanding (MOU) in January 2008 that established a long-term partnership to transform the way in which energy efficiency and renewable energy resources are planned and used in the State. The MOU established working groups to address key sectors of the energy economy (e.g., electricity, end-use efficiency, transportation, and fuels), which led to the establishment of the HCEI. When it was established, HCEI set a goal of meeting 70 percent of Hawaii's energy needs by 2030 through energy efficiency and renewable energy (collectively “clean energy”). DOE has helped advance Hawaii's clean energy goals by providing technical research and analysis, staff involvement, and funding. In September 2014, DOE and the State of Hawaii signed another MOU to reaffirm their commitment to the HCEI.

Purpose and Need for Agency Action

The purpose and need for DOE's action is based on the 2008 and 2014 MOUs with the State of Hawaii that established the long-term HCEI partnership. Consistent with these MOUs, DOE's purpose and need is to support the State of Hawaii in its efforts to meet 70 percent of the State's energy needs by 2030 through clean energy.

DOE's primary purpose in preparing this PEIS, which is not required under NEPA, is to provide information to the public, Federal and State agencies, and future energy developers on the potential environmental impacts of a wide range of energy efficiency activities and renewable energy technologies that could be used to support the HCEI. This environmental information could be used by decisionmakers, developers, and regulators in determining the best activities and technologies to meet future energy needs. The public could use this PEIS to better understand the types of potential impacts associated with the various technologies.

Proposed Action

DOE's Proposed Action is to develop guidance that it can use in making decisions about future funding or other actions to support the State of Hawaii in achieving the HCEI's goal.

For the Hawaii Clean Energy PEIS, DOE and the State of Hawaii identified 31 clean energy technologies and activities associated with potential future actions and grouped them into five clean energy categories:

• Energy efficiency,

• Distributed renewable energy technologies,

• Utility-scale renewable energy technologies,

• Alternative vehicle fuels and modes, and

• Electrical transmission and distribution.

For each activity or technology, the PEIS identifies potential impacts to 17 environmental resource areas and potential best management practices that could be used to minimize or prevent those potential environmental impacts.

On April 18, 2014, DOE published in the Federal Register its notice of availability for the Hawaii Clean Energy Draft PEIS (79 FR 21909). DOE's NOA invited the public to comment on the Draft PEIS during a 90-day period that ended on July 17, 2014. DOE held public hearings in Lihue, Kailua-Kona, Hilo, Kahului, Kaunakakai, Lanai City, Honolulu, and Kaneohe from May 12 to May 22, 2014. Comments received during the public comment period were addressed in a “Comment-Response Document,” which is Chapter 9 of the Final PEIS. Comments received after the close of the comment period also were considered. DOE does not expect to issue a record of decision.

Issued in Washington, DC, September 10, 2015.
Meghan M. Conklin,
Deputy Assistant Secretary, National Electricity Delivery Division, Office of Electricity Delivery and Reliability, Department of Energy.

[FR Doc. 2015-23414 Filed 9-17-15; 8:45 am]

BILLING CODE 6450-01-P